DEPARTMENT OF HEALTH AND HUMAN SERVICES

Food and Drug Administration

University of Arkansas/Food and Drug Administration Food Labeling; Public Workshop; Correction

AGENCY: Food and Drug Administration, HHS.

ACTION: Notice of public workshop; correction.

SUMMARY: The Food and Drug Administration (FDA) is correcting a notice that appeared in the Federal Register of January 4, 2006 (71 FR 349). The document announced a public workshop entitled “UA/FDA Food Labeling Workshop.” The document was published with a typographical error in the SUPPLEMENTARY INFORMATION section. This document corrects that error.

FOR FURTHER INFORMATION CONTACT: David Arvelo, Food and Drug Administration, 4040 North Central Expressway, suite 900, Dallas, TX 75204, 214-253-4952, FAX: 214-243-4970.

SUPPLEMENTARY INFORMATION: In FR Doc. E5-8225, appearing on page 349, in the Federal Register of Wednesday, January 4, 2006, the following correction is made:

1. On page 349, in the third column, the second sentence under SUPPLEMENTARY INFORMATION is corrected to read: “This public workshop is being held in response to the large volume of food labeling inquiries from small food manufacturers and startups originating from the area covered by the FDA Dallas District Office.”

Dated: January 9, 2006.
Jeffrey Shuren,
Assistant Commissioner for Policy.

[FR Doc. E6-268 Filed 1-12-06; 8:45 am]

BILLING CODE 4160-01-S